DEPARTMENT OF ENERGY

Proposed Agency Information Collection Submitted for OMB Review and Comment

AGENCY: U.S. Department of Energy.

ACTION: Notice and request for OMB review and comment.

SUMMARY: The Department of Energy (DOE) has submitted the proposed collection of information described in this Notice to the Office of Management and Budget (OMB) for review and approval, in accordance with the Paperwork Reduction Act of 1995 (44 U.S.C. Chapter 35). This electronic form will certify to DOE that respondents who wish to purchase DOE high risk personal property will comply with the International Traffic in Arms Regulations (ITAR), under 22 CFR 120 et seq., Export Administration Regulations (EAR), under 15 CFR 730 et seq.; Office of Foreign Asset Controls (OFAC), under 31 CFR 500 et seq.; and the United States Customs Service rules and regulations.

DATES: Comments regarding this collection must be received on or before July 22, 2002. If you anticipate that you will be submitting comments, but find it difficult to do so within the time period allowed by this Notice, please advise the OMB Desk Officer of your intention to make a submission as soon as possible. The Desk Officer may be telephoned at (202) 395-7318. In addition, please notify the DOE contact listed in this Notice.

ADDRESSES: Address comments to the DOE Desk Officer, Office of Information and Regulatory Affairs, Office of Management and Budget, New Executive Office Building, Room 10102, 735 17th Street, NW., Washington, DC 20503. (Comments should also be addressed to Susan L. Frey, Director, Records Management Division [IM-11], Office of Records and Business Management, Office of the Chief Information Officer, U.S. Department of Energy, Germantown, MD 20874-1290, and to Faye Zimmerman, Office of Resource Management, Office of Procurement and Assistance Management (ME-632), Room 4H-023, U.S. Department of Energy, Washington, DC 20585. Ms. Zimmerman will receive requests for copies of this collection proposal.)

SUPPLEMENTARY INFORMATION: This package contains: (1) OMB No. 1910-New; (2) Package Title: End-User Certificate; (3) Type of Request: New Collection; (4) Purpose: When acquiring High Risk Property from the Department of Energy, the End-Use Certificate (EUC) will be used to check respondents to determine if they are responsible, not debarred bidders, Specially Designated Nationals or Blocked Persons, or have not violated U.S. export laws and to advise recipients that when property is to be exported, they must comply with the International Traffic in Arms Regulations (ITAR), 22 CFR 120 et seq.; Export Administration Regulations (EAR), 15 CFR 730 et seq.; Office of Foreign Asset Controls (OFAC), 31 CFR 500 et seq.; and the United States Customs Service rules and regulations; (5) Respondents: 5,000 perspective purchasers; (6) Estimated Number of Burden Hours: 1,650.

Statutory Authority: Paperwork Reduction Act of 1995, P.L. No. 104-13, 44 U.S.C. Section 3507(a).

Issued in Washington, DC on May 17, 2002.
Susan L. Frey,
Director, Records Management Division, Office of Records and Business Management, Office of the Chief Information Officer.

[FR Doc. 02-12977 Filed 5-22-02; 8:45 am]

BILLING CODE 6450-01-P